DEPARTMENT OF THE INTERIOR

Minerals Management Service

Agency Information Collection Activities: Proposed Collection; Comment Request

AGENCY: Minerals Management Service (MMS), Interior.

ACTION: Notice of revision of a currently approved information collection (1010-0058).

SUMMARY: To comply with the Paperwork Reduction Act of 1995 (PRA), MMS is inviting comments on a collection of information that we will submit to the Office of Management and Budget (OMB) for review and approval. The information collection request (ICR) concerns the paperwork requirements in the regulations under “30 CFR 250, Subpart I, Platforms and Structures.”

DATES: Submit written comments by August 2, 2004.

ADDRESSES: Mail or hand carry comments to the Department of the Interior; Minerals Management Service; Attention: Rules Processing Team; Mail Stop 4024; 381 Elden Street; Herndon, Virginia 20170-4817. If you wish to e-mail comments, the address is: rules.comments@mms.gov. Reference “Information Collection 1010-0058” in your e-mail subject line and mark your message for return receipt. Include your name and return address in your message.

FOR FURTHER INFORMATION CONTACT: Cheryl Blundon, Rules Processing Team at (703) 787-1600. You may also contact Cheryl Blundon to obtain a copy, at no cost, of the regulations that require the subject collection of information.

SUPPLEMENTARY INFORMATION: Title: 30 CFR 250, Subpart I, Platforms and Structures.

OMB Control Number: 1010-0058.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Specifically, the OCS Lands Act (43 U.S.C. 1356) requires the issuance of “* * * regulations which require that any vessel, rig, platform, or other vehicle or structure— * * * (2) which is used for activities pursuant to this subchapter, comply, * * * with such minimum standards of design, construction, alteration, and repair as the Secretary * * * establishes; * * *.” The OCS Lands Act (43 U.S.C. 1332(6)) also states, “operations in the [O]uter Continental Shelf should be conducted in a safe manner * * * to prevent or minimize the likelihood of * * * physical obstruction to other users of the water or subsoil and seabed, or other occurrences which may cause damage to the environment or to property, or endanger life or health.” These authorities and responsibilities are among those delegated to MMS under which we issue regulations to ensure that operations in the OCS will meet statutory requirements; provide for safety and protection of the environment; and result in diligent exploration, development, and production of OCS leases. This information collection request addresses the regulations at 30 CFR 250, Subpart I, Platforms and Structures.

The MMS OCS Regions use the information submitted under Subpart I to determine the structural integrity of all offshore structures and ensure that such integrity will be maintained throughout the useful life of these structures. We use the information to ascertain, on a case-by-case basis, that the platforms and structures are structurally sound and safe for their intended use to ensure safety of personnel and pollution prevention. More specifically, we use the information to:

• Review information concerning damage to a platform to assess the adequacy of proposed repairs.

• Review plans for platform construction (construction is divided into three phases—design, fabrication, and installation) to ensure the structural integrity of the platform.

• Review verification plans and reports for unique platforms to ensure that all nonstandard situations are given proper consideration during the design, fabrication, and installation phases of platform construction.

• Review platform design, fabrication, and installation records to ensure that the platform is constructed according to approved plans.

• Review inspection reports to ensure that platform integrity is maintained for the life of the platform.

• Verify that existing platforms comply with design criteria in accordance to API RP 2A-WSD (21st edition), “Recommended Practice For Planning, Designing, And Constructing Fixed Offshore Platforms—Working Stress Design,” and to evaluate the risk of allowing existing platforms to finish their originally approved purpose.

• Review reports that relate to framing patterns, soil data, exposure category, initiator data, assessment screening, design level analysis, and ultimate strength analysis.

• Review mitigation plans and platform applications for platforms that fail the ultimate strength analysis.

• Ensure that any object (wellheads, platforms, etc.) installed on the OCS is properly removed and the site cleared so as not to conflict with or harm other users of the OCS.

This notice supersedes the 60-day comment notice published on this Subpart February 27, 2004 (69 FR 9369). In this notice, MMS is revising the collection by inviting comments on a collection of information that will be used to verify the assessment of existing platforms. MMS plans to issue a Notice to Lessees (NTL) requesting the submission of this assessment information as soon as OMB approves this information collection. We need this information to verify that lessees have conducted assessments of existing platforms in an appropriate and timely manner to evaluate the risk of allowing existing platforms to finish their originally approved purposes. The assessment of existing platforms is required through the incorporation of API RP 2A-WSD by reference in 30 CFR 250.900(g). This collection will increase the approved burden by 154,400 hours.

We will protect information from respondents considered proprietary under the Freedom of Information Act (5 U.S.C. 552) and its implementing regulations (43 CFR part 2) and under regulations at 30 CFR 250.196, “Data and information to be made available to the public.” No items of a sensitive nature are collected. Responses are mandatory.

Frequency: The frequency varies by section, but is generally on occasion and annual.

Estimated Number and Description of Respondents: Approximately 130 Federal OCS oil and gas or sulphur lessees.

Estimated Reporting and Recordkeeping “Hour” Burden: The currently approved annual reporting burden for this collection is 28,344. In our submission to OMB we will be requesting an additional 154,400 burden hours in order to implement API RP 2A-WSD. The following chart details the individual components and respective hour burden estimates of this ICR. In calculating the burdens, we assumed that respondents perform certain requirements in the normal course of their activities. We consider these to be usual and customary and took that into account in estimating the burden.

Citation 30 CFR 250 subpart I & NTL | Reporting or recordkeeping requirement | Hour burden
900(b), (g); 901; 902; 909(b)(4)(ii) | Submit application and plans for new platform or major modifications and notice to MMS | 24
900(e) | Request approval for major repairs of damage to platform and notice to MMS | 16
900(f) | Request approval for reuse or conversion of use of existing fixed or mobile platforms | 25
900(g) | Submit assessment screening and report | 16
| Design level analysis | 50
| Ultimate strength analysis and report | 100
| Mitigation and platform application | 100
901(e) | Notify MMS before transporting platform to installation site | ¹ 10
903(a), (b) | Submit nominations for Certified Verification Agent (CVA) | 16
903(a)(1), (2), (3) | Submit interim and final CVA reports | 200
912(a) | Request inspection interval that exceeds 5 years | 16
912(b) | Submit annual report of platforms inspected and summary of testing results | 45
900 thru 914 | General departure and alternative compliance requests not specifically covered elsewhere in Subpart I regulations | 8
Reporting Hour Burden
909, 911, 912, 914 | Recordkeeping Requirement: Maintain records on as-built structural drawings, design assumptions and analyses, summary of nondestructive examination records, inspection results, etc., for the functional life of the platform | 50
¹ Minutes.

Estimated Reporting and Recordkeeping “Non-Hour Cost” Burden: We have identified no “non-hour cost” burdens.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Policy: MMS's practice is to make comments, including names and home addresses of respondents, available for public review during regular business hours. If you wish your name and/or address to be withheld, you must state this prominently at the beginning of your comment. MMS will honor this request to the extent allowable by law; however, anonymous comments will not be considered. All submissions from organizations or businesses, and from individuals identifying themselves as representatives or officials of organizations or businesses, will be made available for public inspection in their entirety.

MMS Information Collection Clearance Officer: Arlene Bajusz (202) 208-7744.

Dated: May 20, 2004.
E.P. Danenberger,
Chief, Engineering and Operations Division.

[FR Doc. 04-12287 Filed 5-28-04; 8:45 am]

BILLING CODE 4310-MR-P